ENVIRONMENTAL PROTECTION AGENCY

40 CFR Part 52

[CA 151-0449w; FRL-7780-4]

Partial Withdrawal of Direct Final Rule Revising the California and Nevada State Implementation Plans, Ventura County Air Pollution Control District and Clark County Department of Air Quality Management

AGENCY: Environmental Protection Agency (EPA).

ACTION: Partial withdrawal of direct final rule.

SUMMARY: On May 20, 2004 (69 FR 29074), EPA published a direct final approval of a revision to the Nevada State Implementation Plan (SIP). This revision concerned Clark County Department of Air Quality Management Section 11, Ambient Air Quality Standards. On its own initiative, EPA is now withdrawing the May 20, 2004 direct final rule with respect to Section 11 to avoid confusion with a subsequent action in which EPA proposed approval of Section 11 along with other Clark County air pollution control rules relating to the local New Source Review program.

The other rule, Ventura County Air Pollution Control District Rule 34, approved in the May 20, 2004 direct final action, is not affected by this withdrawal and is incorporated into the SIP as of July 19, 2004, unless EPA receives adverse comments by June 21, 2004, as set forth in the May 20, 2004 direct final rule.

DATES: The addition of 40 CFR 52.1470(c)(46) published at 69 FR 29076 on May 20, 2004, is withdrawn as of July 2, 2004.

FOR FURTHER INFORMATION CONTACT: Julie Rose, EPA Region IX, (415) 947-4126, rose.julie@epa.gov.

SUPPLEMENTARY INFORMATION: Members of the public with comments on our proposed approval of Section 11 (See 69 FR 31056, June 2, 2004) should submit those comments in response to EPA's June 2, 2004 proposed action rather than the May 20, 2004 action which is the subject of this partial withdrawal.

List of Subjects in 40 CFR Part 52

Environmental protection, Air pollution control, Incorporation by reference, Intergovernmental relations, Ozone, Particulate matter, Reporting and recordkeeping requirements, Sulfur oxides.

Dated: June 17, 2004.
Nancy Lindsay,
Acting Regional Administrator, Region IX.

Accordingly, the addition of 40 CFR 52.1470(c)(46), published in the Federal Register on May 20, 2004 (69 FR 29074), which was to become effective on July 19, 2004, is withdrawn.

[FR Doc. 04-14991 Filed 7-1-04; 8:45 am]

BILLING CODE 6560-50-P